Title 3—

The President

Proclamation 7838 of November 4, 2004

National Adoption Month, 2004

By the President of the United States of America

A Proclamation

By deciding to share their hearts and homes with a child, adoptive parents demonstrate great compassion and receive many blessings in return. During National Adoption Month, we recognize the generosity of adoptive and foster families who are providing hope and love, and we encourage the adoption of children of all ages.

In 2002, I signed the Promoting Safe and Stable Families legislation that supports families and promotes adoption, and last December I signed the Adoption Promotion Act of 2003 to increase incentives to adopt older children. We have raised the adoption tax credit to $10,000 per child and created the AdoptUSKids website that has joined thousands of children with adoptive parents. We are working hard to place more children from foster care to permanent homes. This year, on November 20, communities from all 50 States and the District of Columbia will celebrate National Adoption Day by finalizing the adoption of thousands of children by loving families. And each one of those families will be enriched by the addition of new members. By bringing care and hope into other lives, individuals can fill their own lives with greater purpose.

NOW, THEREFORE, I, GEORGE W. BUSH, President of the United States of America, by virtue of the authority vested in me by the Constitution and laws of the United States, do hereby proclaim November 2004 as National Adoption Month. I call on all Americans to observe this month with appropriate programs and activities to honor adoptive families and to participate in efforts to find permanent homes for waiting children.

IN WITNESS WHEREOF, I have hereunto set my hand this fourth day of November, in the year of our Lord two thousand four, and of the Independence of the United States of America the two hundred and twenty-ninth.

B

[FR Doc. 04-25163

Filed 11-8-04; 9:39 am]

Billing code 3195-01-P